DEPARTMENT OF STATE

[Public Notice 4303]

Notice of Meeting of the United States International Telecommunication Advisory Committee To Prepare for ITU Study Group 16 Meeting, May 6, 2003

The Department of State announces that the meeting of the U.S. International Telecommunication Advisory Committee (ITAC), to discuss the International Telecommunication Union (ITU) Study Group 16 meeting to be held in Geneva from May 20 to May 30, has been changed from April 30th to May 6. The purpose of the ITAC meeting is to advise the Department on policy, technical and operational issues that will be considered by Study Group 16. The time and location of the ITAC meeting will be announced via e-mail. People may join the e-mail broadcast list by sending a request to YoungLM2@state.gov or calling (202) 647-2593.

Dated: April 9, 2003.
Anne Jillson,
Foreign Affairs Officer, International Communications and Information Policy, Department of State.

[FR Doc. 03-9632 Filed 4-17-03; 8:45 am]

BILLING CODE 4710-45-P